DEPARTMENT OF THE INTERIOR

Bureau of Land Management

[MT-070-01-1220-DA]

Final Travel Management Plan Decision for the Clancy-Unionville Area

AGENCY: Bureau of Land Management, Interior.

ACTION: Notice of availability of the Record of Decision.

SUMMARY: The Bureau of Land Management (BLM) and the Forest Service completed the Final EIS (FEIS) analysis for the Clancy-Unionville Vegetative Manipulation and Travel Management Project near Helena, Montana and the BLM has finalized its Record of Decision (ROD) for the Travel Management portion of this project. The Decision is to implement Alternative D modified. This preferred alternative restricts wheeled motorized vehicles to designated roads and trails during varying periods of the year to protect vegetation, soils, water quality and wildlife values. Snowmobiles will be allowed across BLM lands south of Jackson Creek from December 2 to May 15 as snow conditions allow.

Five alternatives were considered in response to the identified issues in the Clancy-Unionville Travel Management Plan FEIS. The preferred Alternative D is considered to be the environmentally preferable alternative. The issues and alternatives are described in Chapter II and analyzed in Chapter III of the FEIS.

Alternative D with four minor modifications described in the ROD was selected as the preferred because it best meets the Purpose and Need statements for the Travel Management Plan. This alternative was specifically developed in response to wildlife issues with emphasis given to big game security and winter range protection. In addition, efforts were made to provide a balanced system of designated roads and trails to meet the needs of both motorized and non-motorized users while protecting important natural resources of the area.

BLM lands restricted to motorized travel under this decision are located in

Principal Meridian Montana

T. 8 N., R.3 W., secs. 4-8;

T. 8 N., R.4 W., secs. 1-3, 9, 10, 12-15, 22 and 23;

T. 9 N., R.3 W., secs. 17-20, 23, 26, and 29-33;

T. 9 N., R.4 W., sec. 25; and

T. 10 N, R.4 W., sec. 36.

Travel restrictions for these above lands will be implemented in accordance with the Clancy-Unionville Travel Plan FEIS ROD during the spring of 2001 subject to the appeal process.

A final decision has also been made to amend the Headwaters Resource Management Plan of 1984, in that all three Management Units (8, 23, and 24) within the affected area would be classified as “Restricted” to motorized travel and “Closed” to permit consideration for organized motor vehicle events. A 30-day protest period was provided for this proposed amendment at the time the FEIS was released to the public and published in the Federal Register on March 17, 2000. Six protests were received and all have been resolved.

DATES: This travel plan decision is subject to public appeal. You have the right to appeal to the Board of Land Appeals, Office of the Secretary, in accordance with the regulations of 43 CFR, part 4. In order for your appeal to be considered timely, it must be received by December 13, 2000, which is 30 days from the date of this publishing in the Federal Register. If an appeal is taken, you must follow the procedures outlined on Form 1842-1, Information on Taking Appeals to the Board of Land Appeals. The appellant has the burden of showing that the Decision appealed from is in error.

This Decision will become effective at the expiration of the time for filing a Notice of Appeal unless a petition for a stay of the Decision is timely filed together with a Notice of Appeal. See 43 CFR 4.21(a). The provisions of 43 CFR 4.21(b) define the standards and procedures for filing a petition to obtain a stay pending appeal.

ADDRESSES: Copies of the FEIS Record of Decisions and Form 1842-1 are available at the Butte Field Office, 106 N. Parkmont, Butte, Montana 59701.

FOR FURTHER INFORMATION CONTACT: Brad Rixford of the Butte Field Office at 406-494-5059.

Steve Hartmann,
Acting Butte Field Manager.

[FR Doc. 00-28815 Filed 11-09-00; 8:45 am]

BILLING CODE 4310-DN-P